DEPARTMENT OF HEALTH AND HUMAN SERVICES

National Institutes of Health

National Institute of Environmental Health Sciences; Amended Notice of Meeting

Notice is hereby given of a change in the meeting of the National Institute of Environmental Health Sciences Special Emphasis Panel, July 15, 2013, 8:00 a.m. to July 15, 2013, 5:00 p.m., National Institute of Environmental Health Sciences, 111 T.W. Alexander Drive, Research Triangle Park, NC, 27709 which was published in the Federal Register on May 29, 2013, 2013-12635.

The meeting notice is amended to change the date of the meeting from July 15, 2013 to July 16, 2013. The meeting is closed to the public.

Dated: June 7, 2013.
Carolyn Baum,
Program Analyst, Office of Federal Advisory Committee Policy.

[FR Doc. 2013-13997 Filed 6-12-13; 8:45 am]

BILLING CODE 4140-01-P